DEPARTMENT OF ENERGY

Federal Energy Regulatory Commission

[Project Nos. 10675-019; 10676-024; 10677-021; 10678-024]

Essential Power Massachusetts, LLC, Nautilus Hydro, LLC; Notice of Transfer of Exemptions

1. By letter filed May 15, 2017, Essential Power Massachusetts, LLC informed the Commission that the exemptions from licensing for the Dwight Project No. 10675, originally issued September 11, 1992,¹ the Red Bridge Project No. 10676, originally issued September 11, 1992,² the Putts Project No. 10677, originally issued September 11, 1992,³ and the Indian Orchard Project No. 10678, originally issued September 11, 1992,⁴ have been transferred to Nautilus Hydro, LLC. The projects are located on the Chicopee River in Hampden County, Massachusetts. The transfer of an exemption does not require Commission approval.

¹ Order Granting Exemption From Licensing (5 MW or Less). Western Massachusetts Electric Company, 60 FERC 62,199 (1992).

² Order Granting Exemption From Licensing (5 MW or Less). Western Massachusetts Electric Company, 60 FERC 62,198 (1992).

³ Order Granting Exemption From Licensing (5 MW or Less). Western Massachusetts Electric Company, 60 FERC 62,197 (1992).

⁴ Order Granting Exemption From Licensing (5 MW or Less). Western Massachusetts Electric Company, 60 FERC 62,196 (1992).

2. Nautilus Hydro, LLC is now the exemptee of the Dwight Project No. 10675, the Red Bridge Project No. 10676, the Putts Project No. 10677, and the Indian Orchard Project No. 10678. All correspondence should be forwarded to: Mr. Jacob A. Pollack, Vice President and Secretary, Nautilus Hydro, LLC, 9405 Arrowpoint Blvd., Charlotte, NC 28273.

Dated: June 27, 2017.
Kimberly D. Bose,
Secretary.

[FR Doc. 2017-13957 Filed 6-30-17; 8:45 am]

BILLING CODE 6717-01-P